DEPARTMENT OF STATE

[Public Notice 4970]

Announcement of Meetings of the International Telecommunication Advisory Committee

SUMMARY: The International Telecommunication Advisory Committee announces additional April meetings to prepare positions for the next meeting of the ITU-T Study Groups 11 (Signalling requirements and protocols), 13 (Next Generation Networks), and 15 (Optical and other transport network infrastructures). Members of the public will be admitted to the extent that seating is available, and may join in the discussions, subject to the instructions of the Chair. Directions to the meeting location are available to the public on the Internet and conference bridge information (if any) may be obtained from marcie.g@comcast.com.

The International Telecommunication Advisory Committee (ITAC) will meet on Friday, April 15, 2005 to prepare U.S. and company contributions to ITU-T Study Groups 11 and 13. The meeting will be held at the Double Tree Hotel Denver North, 8773 Yates Drive, Westminster, CO 80031 starting 30 minutes after the close of the plenary meeting of the Packet Technologies and Systems Committee (PTSC) of the Alliance for Telecommunications Solutions (ATIS), being held at the same venue.

The International Telecommunication Advisory Committee (ITAC) will meet on Friday, April 22, 2005 to prepare U.S. and company contributions to ITU-T Study Group 15. The meeting will be held at the Double Tree Hotel Denver North, 8773 Yates Drive, Westminster, CO 80031 starting 30 minutes after the close of the plenary meeting of the Optical Transport and Synchronization Committee (OTSC) of the Alliance for Telecommunications Solutions (ATIS), being held at the same venue.

Dated: March 1, 2005.
Anne Jillson,
Foreign Affairs Officer, International Communications & Information Policy, Department of State.

[FR Doc. 05-4460 Filed 3-7-05; 8:45 am]

BILLING CODE 4710-45-P